DEPARTMENT OF HEALTH AND HUMAN SERVICES

Centers for Disease Control and Prevention

[60 Day-05-0314]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Cycle 7 of the National Survey of Family Growth (NSFG-7)—OMB No. 0920-0314—Reinstatement with change—National Center for Health Statistics (NCHS), Centers for Disease Control and Prevention (CDC).

Background and Brief Description

The National Survey of Family Growth (NSFG) has been conducted periodically since 1973 by the CDC's National Center for Health Statistics. The first five cycles were based on in-person interviews with national samples of women 15-44 years of age. Cycle 6, in 2002, was based on interviews with a national sample of 12,571 persons—4,928 men and 7,643 women ages 15-44. Interviews provided national estimates of behavior related to birth and pregnancy rates; marriage, divorce, and adoption; behavior related to the risk of Human Immunodeficiency Virus (HIV) and other sexually transmitted diseases; attitudes toward marriage, childbearing, and parenthood; and men's and women's roles in raising children.

While the content of Cycle 7 will be similar to that of Cycle 6, the interviewing will be conducted over a 4-year period rather than being completed in one year, as in previous cycles. This continuous interviewing design is intended to reduce costs, increase efficiency, and contribute to continuous improvement in the collection, processing, and dissemination of the data. Sample size is expected to increase from 12,571 in Cycle 6 to 17,400 total in the 4 years of data collection in Cycle 7. For this cycle, the “Pretest” will be conducted initially in the first 8 weeks of interviewing and, if no problems are found, those weeks will become part of the Main Study. If operational problems are found in that period, they will be corrected, and the “Main Study” will begin at that point. The burden table represents the survey collection averaged over the first three years of data collection.

Users of the NSFG include: the National Institutes of Health's National Institute of Child Health and Human Development and the Office of Population Affairs; CDC's NCHS, Division of Reproductive Health, National Center for Chronic Disease Prevention and Health Promotion(NCCDPHP); Divisions of HIV/AIDS Prevention, National Center for HIV, STD, & TB Prevention (NCHSTP); and the Department's Office of the Assistant Secretary for Planning and Evaluation, and Administration for Children and Families. There is no cost to respondents other than their time to participate.

Estimated Average Annualized Hour Burden
Survey and type of respondents | Number of respondents | Responses per respondent | Avg. burden per response (in hours) | Total burden hours.
Pretest
Screener | 403 | 1 | 5/60 | 34
Males | 109 | 1 | 1 | 109
Females | 133 | 1 | 1.33 | 177
Main Study
Screener | 7,250 | 1 | 5/60 | 604
Males | 1,957 | 1 | 1 | 1,957
Females | 2,393 | 1 | 1.33 | 3,183
Total |  |  |  | 6,064

Betsey Dunaway,
Acting Reports Clearance Officer, Centers for Disease Control and Prevention.

[FR Doc. 05-18056 Filed 9-12-05; 8:45 am]

BILLING CODE 4163-18-P